DEPARTMENT OF THE INTERIOR

Fish and Wildlife Service

[FWS-R8-ES-2024-0002; FXES11140800000-245-FF08EVEN00]

Endangered and Threatened Wildlife and Plants; Proposed Safe Harbor Agreement and Proposed Categorical Exclusion; Los Robles Ranch, Santa Barbara County, CA

AGENCY: Fish and Wildlife Service, Interior.

ACTION: Notice of availability; receipt of permit application.

SUMMARY: We, the U.S. Fish and Wildlife Service (Service), announce the availability of an application for an enhancement of survival permit pursuant to the Endangered Species Act. As part of the application, the applicant submitted a proposed safe harbor agreement. The Service prepared a draft screening form in accordance with the National Environmental Policy Act to evaluate the potential effects of the specific project to the natural and human environment. We invite the public and local, State, Tribal, and Federal agencies to comment on these documents. Before issuing the requested permit, we will take into consideration any information that we receive during the public comment period.

DATES: Written comments should be received on or before March 4, 2024.

ADDRESSES:

Obtaining Documents: You may obtain copies of the documents, and any comments and other materials that we receive, in Docket No. FWS-R8-ES-2024-0002 at https://www.regulations.gov.

Submitting Comments: You may submit comments on the documents, and any comments and other materials that we receive, by one of the following methods:

• Online: https://www.regulations.gov. Search for and submit comments on Docket No. FWS-R8-ES-2024-0002.

• U.S. mail: Public Comments Processing, Attn: Docket No. FWS-R8-ES-2024-0002; U.S. Fish and Wildlife Service Headquarters, MS: PRB/3W; 5275 Leesburg Pike; Falls Church, VA 22041-3803.

FOR FURTHER INFORMATION CONTACT: Eric Morrissette, Fish and Wildlife Biologist, via email at eric_morrissette@fws.gov, by telephone at 805-644-1766, or by mail to the U.S. Fish and Wildlife Service, 2493 Portola Road, Suite B, Ventura, CA 93003. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of an application for an enhancement of survival permit pursuant to section 10(a)(1)(A) of the Endangered Species Act of 1973, as amended (ESA; 16 U.S.C. 1531 et seq.). As part of the application, the applicant developed and submitted the proposed Safe Harbor Agreement for the California Tiger Salamander and Western Spadefoot at Los Robles Ranch in Santa Barbara County, California (SHA), which describes activities associated with the maintenance, enhancement, and restoration of habitat; ongoing legal land use such as ranching or farming; and other covered activities, including the potential future return of any enrolled lands to the baseline condition. The Service prepared a draft low-effect screening form and environmental action statement in accordance with the National Environmental Policy Act of 1969 (NEPA; 42 U.S.C. 4321 et seq.) to evaluate the potential effects to the natural and human environment.

If the requested enhancement of survival permit is approved, it would authorize the applicant to incidentally take the federally endangered Santa Barbara County distinct population segment (DPS) of the California tiger salamander (Ambystoma californiense) and the federally “at-risk” western spadefoot (Spea hammondii) during implementation of activities associated with the maintenance, enhancement, and restoration of habitat; ongoing legal land use such as ranching or farming; and other covered activities, including the potential future return of any enrolled lands to the baseline (pre-agreement) condition. We invite public comment on these documents.

Background

The Service listed the Santa Barbara County DPS of the California tiger salamander as endangered on September 21, 2000 (65 FR 57242). The western spadefoot has no current official status under the ESA, but is under review for listing and is referred to as an at-risk species. Section 9 of the ESA prohibits “take” of fish and wildlife species listed as threatened or endangered (16 U.S.C. 1538), where take is defined to include the following activities: “to harass, harm, pursue, hunt, shoot, wound, kill, trap, capture, or collect, or to attempt to engage in any such conduct” (16 U.S.C. 1532). Under section 10(a) of the ESA, we may issue permits to authorize take of listed fish and wildlife species. Regulations governing incidental take permits for endangered and threatened species are in the Code of Federal Regulations (CFR) at 50 CFR 17.22 and 17.32, respectively.

Under a SHA, participating landowners voluntarily undertake conservation and management activities on their properties to benefit species listed under the ESA. Enhancement of survival permits are issued to applicants in association with approved SHAs to authorize take of the covered species from covered activities on the enrolled lands that are identified in the SHA. Covered activities are those beneficial or otherwise lawful actions that could cause take of a covered species and for which take is authorized by a permit under 50 CFR 17.22a(c). Under a SHA, the Service may authorize incidental taking of a covered species at a level that enables the participating landowner ultimately to return the enrolled property back to agreed-upon baseline conditions. Through the SHA and the associated enhancement of survival permit, the Service also provides assurances to enrolled property owners that additional land, water, and/or natural resource use restrictions will not be imposed as a result of their voluntary conservation actions.

Applicant's Proposed Activities

The proposed action involves the issuance of an enhancement of survival permit to the applicant in association with the implementation of the SHA. The enhancement of survival permit would authorize incidental take that may result from the implementation of the proposed conservation and management activities on the enrolled property during a 30-year permit term, with an option to return the property to the baseline condition at the conclusion of the permit.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the Endangered Species Act (16 U.S.C. 1531 et seq.) and its implementing regulations (50 CFR 17.22 and 17.32) and the National Environmental Policy Act (42 U.S.C. 4321 et seq.) and its implementing regulations (40 CFR 1506.6).

Stephen P. Henry,
Field Supervisor, Ventura Fish and Wildlife Office, Ventura, California.

[FR Doc. 2024-01941 Filed 1-31-24; 8:45 am]

BILLING CODE 4333-15-P